DEPARTMENT OF DEFENSE

Office of the Secretary

[Docket ID: DOD-2010-OS-0007]

Privacy Act of 1974; System of Records

AGENCY: Office of the Secretary, DoD.

ACTION: Notice to add a system of records.

SUMMARY: The Office of the Secretary of Defense is proposing to add a system of records notice to its inventory of record systems subject to the Privacy Act of 1974, (5 U.S.C. 552a), as amended.

DATES: This action will be effective without further notice on March 1, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on January 22, 2010, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: January 26, 2010.
Mitchell S. Bryman,
Alternate OSD Federal Register Liaison Officer, Department of Defense.

DPR 37

System name:

DoD Employer Support of Guard and Reserve Volunteer Rosters.

System location:

Defense Information Systems Agency, Computing Directorate, 5450 Carlisle Pike, Mechanicsburg, PA 17050-2411.

Categories of individuals covered by the system:

Civilian volunteers and ombudsmen serving on field committees supporting the Employer Support of the Guard and Reserve program.

Categories of records in the system:

Full name; mailing address for home and work; telephone numbers for home, work, and mobile devices; e-mail addresses for home and work; role and field committee.

Authority for maintenance of the system:

38 U.S.C. 43, Uniformed Service Employment and Reemployment Rights Act; and DoD Directive 1250.01, National Committee for Employer Support of the Guard and Reserve (NCESGR).

Purpose(s):

To collect, validate status, and maintain an official roster of individuals who are civilian volunteers and ombudsmen with the DoD Employer Support of the Guard and Reserve national, state and local committees and facilitate communication between volunteers, ombudsman and Employer Support of the Guard and Reserve Staff.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD “Blanket Routine Uses” published at the beginning of the Office of the Secretary of Defense's compilation of systems of records notices apply to this system.

Policies and practices for storing, retrieving, accessing, retaining, and disposing of records in the system:

Storage:

Electronic storage media.

Retrievability:

Name, role and field committee.

Safeguards:

Servers are housed in a secure facility. Access to information is role-based and requires Common Access Card (CAC) and limited to those headquarters staff requiring access to service the record in performance of their official duties. State and local committee members must have an RSA token issued by the Employer Support of the Guard and Reserve with limited access. CAC or RSA token secure access is required for PII information display.

Retention and disposal:

Disposition pending. Until the National Archives and Records Administration has approved the retention and disposal of these records, treat them as permanent.

System manager and address:

Deputy Director Resources—IT, 1555 Wilson Boulevard, Suite 319, Wilson Boulevard, Arlington, VA 22209-2405.

Notification procedure:

Individuals seeking to determine whether information about themselves is contained in this system should address written inquiries to Deputy Director Resources—IT, 1555 Wilson Boulevard, Suite 319, Wilson Boulevard, Arlington, VA 22209-2405.

Individuals should provide their full name and field committee.

Record access procedure:

Individuals seeking access to information about themselves contained in this system should address written inquiries to the Office of the Secretary of Defense/Joint Staff Freedom of Information Act Requester Service Center at Office of Freedom of Information 1155 Defense Pentagon, Washington, DC 20301-1155.

Requests should include the individual's full name and field committee, the name and number of this system of records notice and be signed.

Contesting record procedures:

The Office of the Secretary of Defense rules for accessing records, for contesting contents and appealing initial agency determinations are published in Office of the Secretary of Defense Administrative Instruction 81; 32 CFR part 311; or may be obtained from the system manager.

Record source categories:

From the individual.

Exemptions claimed for the system:

None.

[FR Doc. 2010-1831 Filed 1-28-10; 8:45 am]

BILLING CODE 5001-06-P